DEPARTMENT OF VETERANS AFFAIRS

Privacy Act of 1974; Matching Program

AGENCY: Department of Veterans Affairs (VA).

ACTION: Notice of a new matching program.

SUMMARY: VA is providing notice of a new matching program between VA Financial Services Center (FSC), Commercial Operations Division and Department of the Treasury (Treasury), Bureau of the Fiscal Service (Fiscal Service), Do Not Pay (DNP) Business Center. The information will be used to determine whether an individual or entity is eligible to receive federal payments, contract awards, or other benefits, including reducing duplicate payments to vendors and beneficiaries, verifying that beneficiaries submitting claims are not deceased, collecting debt owed to federal or state governments, and suspending or revoking payments as needed.

DATES: Comments on this matching program must be received no later than August 20, 2021. If no public comment is received during the period allowed for comment or unless otherwise published in the Federal Register by VA, the new agreement will become effective a minimum of 30 days after date of publication in the Federal Register. If VA receives public comments, VA shall review the comments to determine whether any changes to the notice are necessary. This matching program will be valid for three years from the effective date of this notice.

ADDRESSES: Comments may be submitted through www.Regulations.gov or mailed to VA Privacy Service, 810 Vermont Avenue NW, (005R1A), Washington, DC 20420. Comments should indicate that they are submitted in response to Individuals submitting Invoices-Vouchers for Payment-VA, 13VA047 (April 23, 2020). Comments received will be available at regulations.gov for public viewing, inspection, or copies.

FOR FURTHER INFORMATION CONTACT: Treasury will be the point of contact and can be reached at donotpay@fiscal.treasury.gov. The Financial Services Center contact is Rishon Gengezha, Division Chief Internal Controls, Auditing and Risk Division (ICARD), Financial Services Center, 1615 Woodward St., Austin, TX 78741, at phone number 512-460-5175.

SUPPLEMENTARY INFORMATION: The purpose of this Computer Matching Agreement (CMA) is to reduce improper payments by authorizing the Treasury, Fiscal Service to provide the Commercial Operations Division, through the Treasury's Working System as defined by OMB MemorandumM-21-19, “Transmittal of Appendix C to OMB Circular A-123, Requirements for Payment Integrity Improvement, identifying information from the Fiscal Service's System of Record (SOR) “Treasury/Fiscal Service.017” about individuals and entities excluded from receiving federal payments, contract awards and other benefits.

Participating Agencies: The CMA is between the VA FSC Commercial Operations Division and Fiscal Service, DNP Business Center.

Authority for Conducting the Matching Program: This matching agreement between DNP and the VA is executed pursuant to

1. Executive Order 13520 “Reducing Improper Payments and Eliminating Waste in Federal Programs” (November 20, 2009).

2. Payment Integrity Information Act of 2019, 31 U.S.C. 3351 et seq. (PIIA).

Purpose(s): The purpose of this CMA is to reduce improper payments by authorizing the Treasury, Fiscal Service to provide the Commercial Operations Division, through the Treasury's Working System as defined by OMB Memorandum M-21-19, “Transmittal of Appendix C to OMB Circular A-123, Requirements for Payment Integrity Improvement, identifying information from the Fiscal Service SOR “Treasury/Fiscal Service.017” about individuals and entities excluded from receiving federal payments, contract awards and other benefits.

Categories of Individuals: This matching program between VA Financial Service Center, Commercial Operations Division and Fiscal Service' DNP Business Center, will be conducted with data maintained by the VA in the Individuals submitting Invoices-Vouchers for Payment-VA, 13VA047 (April 23, 2020). The individuals whose information will be used in this match include Veterans, Employees, Contractors, and Vendors.

Categories of Records: VA may disclose information to the Department of the Treasury to facilitate payments to physicians, clinics, and pharmacies for reimbursement of services rendered, and to veterans for reimbursements of authorized expenses, or to collect, by set off or otherwise, debts owed the United States.

The following data elements will be sent by VA to Fiscal Service for matching against Treasury's Working System: Tax Identification Number (TIN), Business Name, Person First Person Middle Name, Person Last Name, Address, City Name, State Code, Person Date of Birth, Person Sex, Vendor/Payee Phone Number, Vendor/Payee Email Address.

Fiscal Service will return match results to Commercial Operations Division containing the following data elements: Record Code, Payee Identifier, Agency Location Code, Tax Identification Type, Tax Identification Number (TIN), Business or Individual or Government, DUNS Number, Payee Business Name, Payee Business DBA Name, Person Full Name, Person First Name, Person Middle Name, Person Last Name, Address, Person Date of Birth, Person Sex, Vendor/Payee Status, Phone Type. Vendor/Payee Phone Number, Vendor/Payee FAX Number, Vendor/Payee Email Address, Vendor/Payee Active Date, Vendor/Payee Expiration Date, Agency Record Grouping, Other Agency Data, Match Type, Match Source, Match Level, Match Date/Time, Matched Party Type, Matched Tax ID Number, Matched Tax ID Type Code (alternate), Matched Tax ID Number (alternate), Matched DUNS Number, Matched Full Name, Matched First Name, Matched First Name, Matched Middle Name, Matched Last Name, Matched Business Name, Matched DB A Business Name, Matched Birth Date, Matched Death Date, Matched List Status Code, Matched List Status Code Description, Matched List Effective Date, Matched Address, Matched City, Matched State Code, Matched Zip Code and Matched Country Code.

System(s) of Records: Fiscal Service will provide VA with information extracted from the Treasury, Fiscal Service .017—DNP Payment Verification Records, 85 FR 11776 at 11803 (Feb. 27, 2020). Routine use number 1 will allow Fiscal Service to disclose data to VA for the purpose of identifying, preventing, or recouping improper payments. Routine use number 4 will allow Fiscal Service to disclose data to VA to validate eligibility for an award through a federal program.

This matching program will be conducted with data maintained by the VA in the Individuals submitting Invoices-Vouchers for Payment-VA, 13VA047 (April 23, 2020). Routine Use number 18 VA may disclose information to the Department of the Treasury to facilitate payments to physicians, clinics, and pharmacies for reimbursement of services rendered, and to veterans for reimbursements of authorized expenses, or to collect, by set off or otherwise, debts owed the United States.

Signing Authority

The Senior Agency Official for Privacy, or designee, approved this document and authorized the undersigned to sign and submit the document to the Office of the Federal Register for publication electronically as an official document of the Department of Veterans Affairs. Joseph S. Stenaka, Executive Director for Information Security Operations, Chief Privacy Officer and Chair of the VA Data Integrity Board approved this document on June 7, 2021 for publication.

Dated: July 15, 2021.
Amy L. Rose,
Program Analyst, VA Privacy Service, Office of Information Security, Office of Information and Technology, Department of Veterans Affairs.

[FR Doc. 2021-15436 Filed 7-20-21; 8:45 am]

BILLING CODE P